DEPARTMENT OF THE INTERIOR

[NPS-NERO-GATE-18890; PPNEGATEB0, PPMVSCS1Z.Y00000]

Request for Nominations for the Gateway National Recreation Area Fort Hancock 21st Century Advisory Committee

AGENCY: National Park Service, Interior.

ACTION: Request for nominations.

SUMMARY: The National Park Service, U.S. Department of the Interior, is seeking nominations for individuals to be considered for appointment to the Gateway National Recreation Area Fort Hancock 21st Century Advisory Committee. The purpose of the Committee is to advise the Secretary of the Interior, through the Director of the National Park Service, on the development of a reuse plan and on matters relating to future uses of the Fort Hancock Historic Landmark District, located within the Sandy Hook Unit of Gateway National Recreation Area.

DATES: Written nominations must be received by October 16, 2015.

ADDRESSES: Send nominations to: Gateway National Recreation Area, Office of the Superintendent, 210 New York Avenue, Staten Island, New York 10305, or email at forthancock21stcentury@yahoo.com.

FOR FURTHER INFORMATION CONTACT: John Warren, External Affairs Officer, Gateway National Recreation Area, Sandy Hook Unit, 26 Hudson Road, Highlands, New Jersey 07732, or email at forthancock21stcentury@yahoo.com. The telephone number is (732) 872-5908.

SUPPLEMENTARY INFORMATION: The Gateway National Recreation Area Fort Hancock Historic Landmark District is established by authority of the Secretary of the Interior under 16 U.S.C. 1a-2(c), and in accordance with the Federal Advisory Committee Act (5 U.S.C. Appendix 2).

The Committee provides advice on the development of a specific reuse plan and on matters relating to the future uses of the Fort Hancock Historic Landmark District within the Sandy Hook Unit of Gateway National Recreation Area. The Committee provides advice to the National Park Service on developing a plan for the reuse of more than 30 historic buildings that the NPS has determined are excess to its needs and eligible for lease under 16 U.S.C. 1 et seq., particularly 16 U.S.C. 1a-2(k), and 16 U.S.C. 470h-3, or under agreement through appropriate authorities.

The Committee consists of representatives from among, but not limited to, the following interest groups to represent a range of interests concerned with the management of Fort Hancock Park and its impact on the local area: The natural resource community, the business community, the cultural resource community, the real estate community, the recreation community, the education community, the scientific community, and hospitality organizations. The Committee will also include representatives from the following municipalities: Borough of Highlands, Borough of Sea Bright, Middletown Township, Borough of Rumson, and Monmouth County Freeholders.

The National Park Service is now seeking nominations from members representing the following categories or municipalities: The natural resource community, the real estate community, the education community, the scientific community, the historic preservation community, the Borough of Highlands, the Borough of Sea Bright, the Borough of Rumson, and the Monmouth County Freeholders.

Members are appointed to 3-year terms, and will serve without compensation. The Committee expects to meet approximately 4 to 6 times a year. Members are expected to make every effort to attend all meetings. Members may not appoint deputies or alternates.

All those interested in membership, including current members whose terms are expiring, must follow the same nomination process. Nominations should describe and document the proposed member's qualifications for membership to the Committee, and should include his or her name, title, address, telephone, email, and fax number.

Committee members will be selected based on the following criteria: (1) Ability to collaborate, (2) ability to understand NPS management and policy, and (3) connection with local communities.

Individuals who are federally registered lobbyists are ineligible to serve on FACA and non-FACA boards, committees, or councils in an individual capacity. The term “individual capacity” refers to individuals who are appointed to exercise their own individual best judgement on behalf of the government, such as when they are designated Special Government Employees, rather than being appointed to represent a particular interest.

Dated: August 10, 2015.
Alma Ripps,
Chief, Office of Policy.

[FR Doc. 2015-22558 Filed 9-15-15; 8:45 am]

BILLING CODE 4310-EE-P